POSTAL REGULATORY COMMISSION

[Docket No. MC2010-20; Order No. 423]

New Postal Product

AGENCY: Postal Regulatory Commission.

ACTION: Notice.

SUMMARY: The Commission is noticing a recently-filed Postal Service request to transfer selected Post Office Box Service locations from the Market Dominant Product List to the Competitive Product List. This notice addresses procedural steps associated with that filing.

DATES: Comments are due: March 31, 2010.

ADDRESSES: Submit comments electronically via the Commission's Filing Online system at http://www.prc.gov. Commenters who cannot submit their views electronically should contact the person identified in the FOR FURTHER INFORMATION CONTACT section by telephone for advice on alternatives to electronic filing.

FOR FURTHER INFORMATION CONTACT: Stephen L. Sharfman, General Counsel, 202-789-6820 or stephen.sharfman@prc.gov.

SUPPLEMENTARY INFORMATION:

Table of Contents

I. Introduction

II. Notice of Filing

III. Ordering Paragraphs

I. Introduction

On March 12, 2010, the Postal Service filed a request, pursuant to 39 U.S.C. 3642 and 39 CFR 3020.30 et seq., to add a new product to the Competitive Product List. More specifically, it proposes to transfer a small segment of Post Office Box Service, currently classified as a market dominant product and part of the Special Services class, to the Competitive Product List.¹

¹ Request of the United States Postal Service, March 12, 2010 (Request); see also Notice of the United States Postal Service of Filing of USPS-MC2010-20/NP1, March 12, 2010.

The Postal Service supports its Request with conforming Mail Classification Schedule (MCS) language as Attachment A, a Statement of Supporting Justification as required by 39 CFR 3020.32 as Attachment B, an application for non-public treatment of materials, and a redacted version of the spreadsheet used to calculate revenue as Attachments C and D, respectively. Id. at 3. The Postal Service separately filed a non-public version of the spreadsheet.

In the Statement of Supporting Justification, Nan McKenzie, Manager, Special Services, asserts that the transfer of Post Office Box Service in a few locations will not impair the ability of competitive products as a whole to comply with 39 U.S.C. 3633(a)(3). Id., Attachment B, at 4. Thus, Ms. McKenzie contends there will be no issue of subsidization of competitive products by market dominant products as a result of the proposed change. Id. Post Office Box Service offers secure mail delivery to a receptacle for a fee. The Postal Service states that it intends to establish the new product by moving Post Office Box Service from the Market Dominant Product List to the Competitive Product List in a small number of locations where competitive alternatives exist. Request at 1. The Postal Service describes its initial proposal as modest, involving “a few box sections where competitive conditions can be already demonstrated.” Id. It contends because of the limited number of boxes under consideration, the initial proposal “does not require detailed examination of costing and other issues.” Id. The Postal Service states that in the event a more substantial transfer of box sections is proposed, costing and other issues can be addressed in more detail. Id. It asserts that all of the box sections subject to transfer are in fee group 1 areas, and the proposed transfer of service amounts to less than 0.5 percent of the market dominant Post Office Box product's revenue. Id. at 2-3. The Postal Service notes that it is undertaking a comprehensive evaluation of all Post Office Box locations and may propose additional transfers if justified. Id. at 2.

The Postal Service contends that a Governors' Decision is not required for this request because it does not propose any changes in the parameters of Post Office Box Service, the proposed MCS language is only modified to identify box locations for the competitive product, the transfer includes only fee group 1 prices, and excludes provisions applicable to Group E boxes which are the only method of delivery for certain customers.²

² The Postal Service notes that the MCS language it offers is based on the current market dominant Post Office Box language with changes necessary to identify the competitive product. It also states that the Group E boxes in the affected ZIP Code locations that are not being included in the transfer are still a part of the Post Office Box Service under evaluation, and Group E boxes may be addressed in the future.

Additionally, the Postal Service advances reasons for the proposed changes to the Post Office Box Service product in conformity with 39 CFR 3020.31, which include: (1) It is not a special classification pursuant to 39 U.S.C. 3622(c)(10) for market dominant products; (2) upon transfer to the Competitive Product List, it will not be a product not of general applicability in accordance with 39 U.S.C. 3632(b)(3) for competitive products; and (3) it is not a nonpostal product. Id. at 3.

The Postal Service contends that “transferring a small portion of Post Office box service is appropriate at this time, and is consistent with the standards of section 3642.” Id. In its Request, the Postal Service maintains that the supporting financial information, including the calculation of revenue for the ZIP Code locations subject to transfer, should remain under seal. Id., Attachment C.

The Postal Service states it will concurrently file a notice explaining these changes in the Federal Register. Id. at 4.

The Postal Service urges the Commission to approve the Request. Id. at 3.

II. Notice of Filing

The Commission establishes Docket No. MC2010-20 for consideration of matters identified in the Postal Service's Request.

The Commission appoints James Callow and Jeremy Simmons to represent the interests of the general public in this proceeding.

Comments. Pursuant to section 3020.33, interested persons may submit comments on whether the planned transfer is consistent with the policies of 39 U.S.C. 3633 and 3642 and 39 CFR 3020.30 et seq., subpart B. Comments are due no later than March 31, 2010. The public portions of these filings can be accessed via the Commission's Web site (http://www.prc.gov).

III. Ordering Paragraphs

It is ordered:

1. The Commission establishes Docket No. MC2010-20 for consideration of the matters raised in this docket.

2. Pursuant to 39 U.S.C. 505, James Callow and Jeremy Simmons are appointed to serve as officers of the Commission (Public Representatives) to represent the interests of the general public in these proceedings.

3. Comments by interested persons in these proceedings are due no later than March 31, 2010.

4. The Secretary shall arrange for publication of this order in the Federal Register.

By the Commission.
Shoshana M. Grove,
Secretary.

[FR Doc. 2010-6170 Filed 3-19-10; 8:45 am]

BILLING CODE 7710-FW-S